DEPARTMENT OF AGRICULTURE

Food and Nutrition Service

Agency Information Collection Activities; Proposed Collection, Comment Request: Special Supplemental Nutrition Program for Women, Infants, and Children Infant and Toddler Feeding Practices Study

AGENCY: Food and Nutrition Service, United States Department of Agriculture (USDA).

ACTION: Notice and request for comments.

SUMMARY: In accordance with the Paperwork Reduction Act of 1995, this notice invites the public and other public agencies to comment on this proposed information collection. This collection is a revision of the currently approved WIC Infant and Toddler Feeding Practices 2 Study (ITFPS-2). The revision is to amend the 24-month data collection instrument and extend the data collection on the cohort of infants by one year, to their 3rd birthday. The data will be used to estimate the type and prevalence of various feeding practices in the WIC population and assess whether the new WIC food packages (instituted in 2009) have influenced feeding practices. This study will also examine the circumstances and influences that shape mothers' feeding decisions for their children, and will describe the impact of these decisions throughout early child development.

DATES: Written comments must be received on or before December 5, 2014.

ADDRESSES: Comments are invited on: (a) Whether the proposed collection of information is necessary for the proper performance of the functions of the agency, including whether the information shall have practical utility; (b) the accuracy of the agency's estimate of the burden on the proposed collection of information, including the validity of the methodology and assumptions that were used; (c) ways to enhance the quality, utility, and clarity of the information collected; and (d) ways to minimize the burden of the information collection on respondents, including use of appropriate automated, electronic, mechanical, or other technological methods of data collection.

Written comments may be sent to: Allison Magness, Ph.D., R.D., Social Science Research Analyst, Office of Policy Support, Food and Nutrition Service, USDA, 3101 Park Center Drive, Room 1014, Alexandria, VA 22302. Comments may also be submitted via fax to the attention of Allison Magness at 703-305-2576 or via email to allison.magness@fns.usda.gov. Comments will also be accepted through the Federal eRulemaking Portal. Go to http://www.regulations.gov and follow the online instructions for submitting comments electronically.

All responses to this notice will be summarized and included in the request for Office of Management and Budget approval. All comments will be a matter of public record.

FOR FURTHER INFORMATION CONTACT: To request more information on the proposed project, contact Allison Magness, Ph.D., R.D., Social Science Research Analyst, Office of Policy Support, Food and Nutrition Service, USDA, 3101 Park Center Drive, Room 1014, Alexandria, VA 22302.

SUPPLEMENTARY INFORMATION: Title: Special Supplemental Nutrition Program for Women, Infants, and Children (WIC) Infant and Toddler Feeding Practices Study-2 (ITFPS-2) Age 3 Extension.

Form Number: N/A.

OMB Number: 0584-0580.

Expiration Date of Approval: 05/31/2015.

Type of request: Revision of a currently approved collection.

Abstract: The Food and Nutrition Service's (FNS) WIC ITFPS-2 (“base” study) will provide information on the feeding practices of infants in the base cohort from the time of birth up to 2 years of age. The proposed revision will amend the 24-month data collection instrument and extend the longitudinal data collection of the current cohort of infants up to 3 years of age. This proposed extension is needed to understand the environmental characteristics, influence of WIC, and children's nutrient intake, meal and snack patterns, and feeding practices on children's nutrition, health, weight, and growth. The results will assist in the development of appropriate and effective prevention strategies to improve the health of young children. With over 50 percent of the nation's infants enrolled in WIC, it is hoped that prevention strategies implemented in WIC will have a substantial impact on the growth and health of U.S. infants and children.

The study activities subject to this notice include: informing State WIC office and local WIC sites that the study has been extended and their role in the extension study; collecting contact information on 2,716 mothers/caregivers in the base study during the 24-month telephone interview; administering two additional telephone interviews to up to 3,277 mothers/caregivers of children in the base study when their child is 30- and 36-months old; and obtaining their child's height and weight measurements at 36-months from WIC administrative records, health care provider records, or direct measurements at WIC sites.

The State WIC office and local WIC site staff will receive an email about the study extension and they will participate in a conference call to discuss the follow-up activities. Additionally, each study participant will receive a study flyer when their child is 21 months of age, and they will be asked to provide updated contact information to ensure ongoing participation at the time of the 24-month interview. Prior to the telephone interview, the mother/caregiver for each child in the cohort will be mailed an invitation to continue in the study that includes a toll-free number to call-in for questions. They will also be re-contacted throughout this study. Participants will receive periodic cards, calls, and text messages to remind them of upcoming data collection interviews and height and weight (H/W) measurements. State agency staff will extract H/W data of participating children from WIC administrative records; health care providers will provide H/W measurements for the majority of non-participating children (i.e., who have dropped out of WIC); and WIC site staff will weigh and measure the remaining non-participating children. WIC site staff will also provide updated contact information when requested.

Affected Public: Individuals/Households (4,050; 3,241 respondents including pre-testing and 809 non-respondents); State, Local or Tribal government (107 respondents and 0 non-respondents); and Business-for-profit/not-for-profit (196; 157 respondents and 39 non-respondents). There are approximately 848 non-respondents who will be contacted but choose not to participate. The burden for non-respondents is broken down in the table below.

Type of Respondents: Mothers/caregivers of infants in cohort; State agency data managers and WIC site staff; and health care providers.

Estimated Total Number of Respondents: 4,353.

Frequency of Response: 10.36 annually.

Estimated Annual Responses: 45,077.

Estimate of Time per Respondent and Annual Burden: The total public reporting burden for this collection of information is estimated at 5,039.11 hours. The estimated burden for each type of respondent is given in the table below. Across all study respondents and non-respondents, the estimated average annual burden is 1.16 hours.

BILLING CODE 3410-30-P

Dated: September 30, 2014.
Audrey Rowe,
Administrator, Food and Nutrition Service.

[FR Doc. 2014-23740 Filed 10-3-14; 8:45 am]

BILLING CODE 3410-30-C